DEPARTMENT OF DEFENSE

GENERAL SERVICES ADMINISTRATION

NATIONAL AERONAUTICS AND SPACE ADMINISTRATION

48 CFR Chapter 1

[Docket No. FAR-2024-0051, Sequence No. 8]

Federal Acquisition Regulation; Federal Acquisition Circular 2025-03; Small Entity Compliance Guide

AGENCY: Department of Defense (DoD), General Services Administration (GSA), and National Aeronautics and Space Administration (NASA).

ACTION: Small Entity Compliance Guide (SECG).

SUMMARY: This document is issued under the joint authority of DoD, GSA, and NASA. This Small Entity Compliance Guide has been prepared in accordance with section 212 of the Small Business Regulatory Enforcement Fairness Act of 1996. It consists of a summary of the rules appearing in Federal Acquisition Circular (FAC) 2025-03, which amends the Federal Acquisition Regulation (FAR). Interested parties may obtain further information regarding these rules by referring to FAC 2025-03, which precedes this document.

DATES: January 3, 2025.

ADDRESSES: The FAC, including the SECG, is available at https://www.regulations.gov.

FOR FURTHER INFORMATION CONTACT: For clarification of content, contact the analyst whose name appears in the table below. Please cite FAC 2025-03 and the FAR Case number. For information pertaining to status or publication schedules, contact the Regulatory Secretariat Division at 202-501-4755 or GSARegSec@gsa.gov. An asterisk (*) next to a rule indicates that a regulatory flexibility analysis has been prepared.

Rules Listed in FAC 2025-03
Item | Subject | FAR case | Analyst
* I | Improving Consistency Between Procurement and Nonprocurement Procedures on Suspension and Debarment | 2019-015 | Delgado.
* II | Rerepresentation of Size and Socioeconomic Status | 2020-016 | Bowman.
* III | Subcontracting to Puerto Rican And Covered Territory Small Businesses | 2023-001 | Moore.

SUPPLEMENTARY INFORMATION: Summaries for each FAR rule follow. For the actual revisions and/or amendments made by these FAR rules, refer to the specific item numbers and subjects set forth in the documents following these item summaries. FAC 2025-03 amends the FAR as follows:

Item I—Improving Consistency Between Procurement and Nonprocurement Procedures on Suspension and Debarment (FAR Case 2019-015)

This final rule amends the FAR to improve consistency between the procurement and nonprocurement procedures on suspension and debarment, based on recommendations of the Interagency Suspension and Debarment Committee. The changes in the FAR bring the two systems into closer alignment, enhancing transparency and consistency within the Government's suspension and debarment procedures. This allows contractors a better understanding of how the two systems' procedures relate to each other. The changes are not expected to have a significant economic impact on a substantial number of small entities. It is anticipated that this rule will have a positive impact on small businesses with increased transparency in the process.

Item II—Rerepresentation of Size and Socioeconomic Status (FAR Case 2020-016)

This final rule amends the FAR to implement regulatory changes made by the Small Business Administration to size and socioeconomic status rerepresentation requirements for orders placed against multiple-award contracts. Specifically, business concerns that represented their status as any of the small business concerns identified at FAR 19.000(a)(3) are required to rerepresent their size and/or socioeconomic status for orders set aside—

(1) Under unrestricted multiple-award contracts, unless the order is issued against a reserve for which size and/or status was required.

(2) Under a multiple-award contract that was totally or partially set aside for small businesses, and the order requires a different socioeconomic status.

Federal Supply Schedules (FSS) are exempt from these requirements.

The final rule will help to validate that small businesses qualify for the size and/or socioeconomic status associated with orders placed under certain multiple-award contracts. Also, entities that no longer qualify under the applicable North American Industry Classification System (NAICS) code or the socioeconomic status they claim may not qualify under the applicable NAICS code or socioeconomic status for set-aside orders under the multiple-award contracts subject to this rule.

The final rule is not expected to have a significant economic impact on a substantial number of small entities.

Item III—Subcontracting to Puerto Rican and Covered Territory Small Businesses (FAR Case 2023-001)

This final rule amends the FAR to implement regulatory changes made by the Small Business Administration to implement section 861 of Public Law 115-232 and section 866 of Public Law 116-283, which add incentives for certain U.S. territories under the Small Business Administration mentor-protégé program. This final rule also specifies the entities that are not required to submit subcontracting plans as subcontractors. This final rule is not expected to have a significant impact on a substantial number of small entities; however, it will impact small businesses whose principal office is in the Commonwealth of Puerto Rico or that are covered territory businesses that enter into SBA-approved mentor-protégé agreements.

William F. Clark,
Director, Office of Government-wide Acquisition Policy, Office of Acquisition Policy, Office of Government-wide Policy.

[FR Doc. 2024-31408 Filed 1-2-25; 8:45 am]

BILLING CODE 6820-EP-P